FEDERAL RETIREMENT THRIFT INVESTMENT BOARD

Sunshine Act; Notice of Meeting

TIME AND DATE: Parts open to the public begin at 1:30 p.m. June 25, 2015.

PLACE: 10th Floor Board Meeting Room, 77 K Street NE., Washington, DC 20002.

STATUS: Parts will be open to the public and parts closed to the public.

MATTERS TO BE CONSIDERED:

Parts Closed to the Public (12:30 p.m.-1:30 p.m.)

1. Security

2. Procurement

Parts Open to the Public (1:30 p.m.-3:00 p.m.)

3. Approval of the Minutes of the May 18, 2015 Joint ETAC/Board Member Meeting

4. Monthly Reports

(a) Monthly Participant Activity Report

(b) Monthly Investment Report

(c) Legislative Report

5. Office of External Affairs Report

CONTACT PERSON FOR MORE INFORMATION: Kimberly Weaver, Director, Office of External Affairs, (202) 942-1640.

Dated: June 17, 2015.
James Petrick,
General Counsel, Federal Retirement Thrift Investment Board.

[FR Doc. 2015-15311 Filed 6-17-15; 4:15 pm]

BILLING CODE 6760-01-P